DEPARTMENT OF COMMERCE

International Trade Administration

[C-337-807]

Individually Quick Frozen Red Raspberries From Chile: Postponement of Time Limit for Preliminary Determination of Countervailing Duty Investigation

EFFECTIVE DATE: August 16, 2001.

AGENCY: Import Administration, International Trade Administration, Department of Commerce.

FOR FURTHER INFORMATION CONTACT: Craig Matney, Office of AD/CVD Enforcement Group I, Import Administration, International Trade Administration, U.S. Department of Commerce, 14th Street and Constitution Avenue, NW., Washington, DC 20230, telephone (202) 482-1778.

Postponement of Preliminary Determination:

On June 28, 2001, the Department initiated the countervailing duty investigation of individually quick frozen red raspberries from Chile. See Notice of Initiation of Countervailing Duty Investigation: Individually Quick Frozen Red Raspberries From Chile, 66 FR 34423 (June 28, 2001). The preliminary determination currently must be issued by August 24, 2001.

On August 3, 2001, the petitioners submitted a written request pursuant to 19 CFR 351.205(e) for a postponement of the preliminary determination in accordance with section 703(c)(1)(A) of the Tariff Act of 1930, as amended (“the Act”). The petitioners requested a 45 day postponement (i.e., until October 8, 2001) in order to allow time for the petitioners to submit comments on the respondents' questionnaire response and to allow time for the Department to issue supplemental questionnaires.

The Department finds no compelling reason to deny the request. Therefore, we are postponing the preliminary determination until no later than October 8, 2001.

This notice of postponement is published pursuant to section 703(c)(2) of the Act.

Dated: August 9, 2001.
Richard W. Moreland,
Deputy Assistant Secretary for Import Administration.

[FR Doc. 01-20670 Filed 8-15-01; 8:45 am]

BILLING CODE 3510-DS-P